DEPARTMENT OF COMMERCE

Foreign-Trade Zones Board

[B-73-2019]

Foreign-Trade Zone (FTZ) 41—Milwaukee, Wisconsin; Authorization of Production Activity; Jeneil Biotech, Inc. (Natural Fragrance Intermediates), Saukville, Wisconsin

On September 27, 2018, the Port of Milwaukee, grantee of FTZ 41, submitted a notification of proposed production activity to the FTZ Board on behalf of Jeneil Biotech, Inc., within Site 16, in Saukville, Wisconsin.

The notification was processed in accordance with the regulations of the FTZ Board (15 CFR part 400), including notice in the Federal Register, inviting public comment (83 FR 57717-57718, November 16, 2018). On March 6, 2019, the applicant was notified of the FTZ Board's decision that no further review of the activity is warranted at this time. The production activity described in the notification was authorized, subject to the FTZ Act and the FTZ Board's regulations, including Section 400.14.

Dated: March 6, 2019.
Andrew McGilvray,
Executive Secretary.

[FR Doc. 2019-04336 Filed 3-8-19; 8:45 am]

BILLING CODE 3510-DS-P